DEPARTMENT OF HEALTH AND HUMAN SERVICES

Administration for Children and Families

Proposed Information Collection Activity; Comment Request

Proposed Project

Title: State Plan for FC, ILP and AA under Title IV-E of the Social Security Act.

OMB No.: 0980-0141.

Description: A State plan is required by sections 471 and 477(b)(2), part IV-E of the Social Security Act (the Act) for each public child welfare agency requesting Federal funding for foster care (FC), independent living services (ILP) and adoption assistance (AA) under the Act. The State plan is a comprehensive description of the nature and scope of the State's program and provides assurance the program will be administered in conformity with the specific requirements stipulated in title IV-E. The plan must include all applicable State statutory, regulatory, or policy references and citations for each requirement as well as documentation to support the references. States may use the pre-print format prepared by the Children's Bureau or a different format, on the condition that the format used includes all of the title IV-E state plan requirements of the law.

Respondents: State and Territorial Agencies (State Agencies) administering or supervising the administration of the title IV-E program.

Annual Burden Estimates: An initial plan is submitted by the State Agency for approval to participate in the title IV-E program. Plan amendments are submitted whenever necessary to reflect changes in Federal statute or regulation, or, material changes in State law, policy or program operation. Our experience is that a State Agency will amend a plan once every four years and that 12 will amend their plans annually.

Instrument | Number of respondents | Number of responses per respondent | Average burden hours per response | Total burden hours
State Plan for FC, ILP and AA | 12 | 1 | 15 | 180

Estimated Total Annual Burden Hours: 180.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 30 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 9, 2002.
Bob Sargis,
Reports Clearance, Officer.

[FR Doc. 02-12319 Filed 5-16-02; 8:45 am]

BILLING CODE 4184-01-M